DEPARTMENT OF HEALTH AND HUMAN SERVICES

Administration for Children and Families

Submission for OMB Review; Refugee Assistance Program Estimates: CMA—ORR-1

AGENCY: Office of Refugee Resettlement, Administration for Children and Families, HHS.

ACTION: Request for public comment.

SUMMARY: The Office of Refugee Resettlement (ORR), Administration for Children and Families (ACF), U.S. Department of Health and Human Services (HHS) is requesting a 1-year extension of the form ORR-1, Cash and Medical Assistance (CMA) Program Estimates (OMB #0970-0030, expiration 2/28/2021). There are no changes requested to the form or instructions.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ORR-1, CMA Program Estimates, is the application for grants under the CMA program. The application is required by ORR program regulations at 45 CFR 400.11(b). The regulation specifies that states must submit, as their application for this program, estimates of the projected costs they anticipate incurring in providing cash and medical assistance for eligible recipients and the costs of administering the program. Under the CMA program, states are reimbursed for the costs of providing these services and benefits for 8 months after an eligible recipient arrives in this country. The eligible recipients for these services and benefits are refugees, Amerasians, Cuban and Haitian Entrants, asylees, Afghans and Iraqi with Special Immigrant Visas, and victims of a severe form of trafficking. States that provide services for unaccompanied refugee minors also provide an estimate for the cost of these services for the year for which they are applying for grants.

Respondents: State agencies, the District of Columbia, and Replacement Designees under 45 CFR 400.301(c) administering or supervising the administration of programs under Title IV of the Act.

Annual Burden Estimates
Instrument | Total number of respondents | Total number of responses per respondent | Average burden hours per response | Total/ annual burden hours
ORR-1, Cash and Medical Assistance Program Estimates | 57 | 1 | 0.6 | 34

Estimated Total Annual Burden Hours: 34.

(Authority: 8 U.S.C. 412(a)(4))

Mary B. Jones,
ACF/OPRE Certifying Officer.

[FR Doc. 2021-03861 Filed 2-24-21; 8:45 am]

BILLING CODE 4184-45-P